DEPARTMENT OF DEFENSE

Department of the Air Force

[Docket ID USAF-2008-0027]

Privacy Act of 1974; System of Records

AGENCY: Department of the Air Force, DoD.

ACTION: Notice to alter a system of records notice.

SUMMARY: The Department of the Air Force proposes to alter a system of records notice to its inventory of records systems subject to the Privacy Act of 1974 (5 U.S.C. 552a), as amended.

DATES: This action will be effective on December 12, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on October 24, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: November 3, 2008.
Morgan E. Frazier,
Alternate OSD Federal Register Liaison Officer, Department of Defense.

F051 AF JA H

System name:

Claims Records (June 11, 1997, 62 FR 31793).

Changes:

* * * * *

System location:

Delete entry and replace with “The Judge Advocate General, Headquarters United States Air Force, 1420 Air Force Pentagon, Washington, DC 20330-1420. Headquarters of major commands and at all levels down to and including Air Force installations. Official mailing addresses are published as an appendix to the Air Force's compilation of systems of records notices.”

* * * * *

Categories of records in the system:

Delete entry and replace with “All records necessary to adjudicate a claim, to include reports from other DoD offices; federal and state agencies; foreign governments; and witness statements.”

Authority for maintenance of the system:

Delete entry and replace with “10 U.S.C. 8013, Secretary of the Air Force; U.S.C. 8037, Judge Advocate General, Deputy Judge Advocate General: Appointment and duties; Air Force Instruction 51-501, Tort Claims; Air Force Instruction 51-502, Personnel and Government Recovery Claims and E.O. 9397 (SSN).”

Purpose(s):

Delete entry and replace with “Records are used for claims adjudication and processing, budgeting, and management of claims. Records are also used as necessary in civil litigation involving the United States.”

Routine uses of records maintained in the system, including categories of users and the purposes of such uses:

After the second paragraph, add to entry “To any other federal agency for the purpose of adjudicating claims and civil litigation.

To state and local entity for the purpose of claims processing and civil litigation involving the Air Force.

To any person or entity for the purpose of completing the Air Force's structured settlements.

To foreign governments and courts, carriers and their insurance companies for all purposes involving the investigation and payment of claims filed against the Air Force or in which the Air Force is an interested party.”

* * * * *

Storage:

Delete entry and replace with “Paper records in file folders and on electronic storage media.”

Retrievability:

Delete entry and replace with “Retrieved by name, Social Security Number (SSN); and/or claim number.”

* * * * *

Retention and disposal:

Delete entry and replace with “Retained in office either one or two years depending upon type of claim, then destroyed after four additional years at staging area; after agency action completed others are held one, three, five years or ten years, depending on the type of claim and type of record. Paper files are disposed of by tearing into pieces, shredding, pulping, macerating, or burning. Computer records are destroyed by deleting, erasing, degaussing, or by overwriting.”

System manager(s) and address:

Delete entry and replace with “The Judge Advocate General, Headquarters United States Air Force, 1420 Air Force Pentagon, Washington, DC 20330-1420.”

Notification procedure:

Delete entry and replace with “Individuals seeking to determine whether information about themselves is contained in this system should address written inquiries to the Judge Advocate General, Headquarters United States Air Force, 1420 Air Force Pentagon, Washington, DC 20330, or to the Staff Judge Advocate at the concerned subordinate command or installation.

Requests should include full name and proof of identity, date of incident and claim number, date and type of claim, location of incident may also be required.”

Record access procedures:

Delete entry and replace with “Individuals seeking access to information about themselves contained in this system should address written inquiries to the Judge Advocate General, Headquarters United States Air Force, 1420 Air Force Pentagon, Washington, DC 20330; or to the Staff Judge Advocate at the concerned subordinate command or installation.

Requests should include full name and proof of identity, date of incident and claim number, date and type of claim, location of incident may also be required.”

* * * * *

F051 AF JA H

System name:

Claims Records.

System location:

The Judge Advocate General, Headquarters United States Air Force, 1420 Air Force Pentagon, Washington, DC 20330-1420. Headquarters of major commands and at all levels down to and including Air Force installations. Official mailing addresses are published as an appendix to the Air Force's compilation of systems of records notices.

Categories of individuals covered by the system:

Individuals filing administrative claims against the Air Force or against whom the Air Force has filed an administrative claim.

Categories of records in the system:

All records necessary to adjudicate a claim, to include reports from other DoD offices; federal and state agencies; foreign governments; and witness statements.

Authority for maintenance of the system:

10 U.S.C. 8013, Secretary of the Air Force; U.S.C. 8037, Judge Advocate General, Deputy Judge Advocate General: Appointment and duties; Air Force Instruction 51-501, Tort Claims; Air Force Instruction 51-502, Personnel and Government Recovery Claims and E.O. 9397 (SSN).

Purpose(s):

Records are used for claims adjudication and processing, budgeting, and management of claims. Records are also used as necessary in civil litigation involving the United States.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: To any other federal agency for the purpose of adjudicating claims and civil litigation.

To state and local entity for the purpose of claims processing and civil litigation involving the Air Force.

To any person or entity for the purpose of completing the Air Force's structured settlements.

To foreign governments and courts, carriers and their insurance companies for all purposes involving the investigation and payment of claims filed against the Air Force or in which the Air Force is an interested party.

The “Blanket Routine Uses” published at the beginning of the Air Force's compilation of systems of records notices apply to this system.

Policies and practices for storing, retrieving, accessing, retaining, and disposing of records in the system:

Storage:

Paper records in file folders and on electronic storage media.

Retrievability:

Retrieved by name, Social Security Number (SSN) and/or claim number.

Safeguards:

Records are accessed by person(s) responsible for servicing the record system in performance of their official duties and by authorized personnel who are properly screened and cleared for need-to-know. Records are stored in locked rooms and cabinets. Those in computer storage devices are protected by computer system software. Computers must be accessed with a password.

Retention and disposal:

Retained in office either one or two years depending upon type of claim, then destroyed after four additional years at staging area; after agency action completed others are held one, three, five years or ten years, depending on the type of claim and type of record. Paper files are disposed of by tearing into pieces, shredding, pulping, macerating, or burning. Computer records are destroyed by deleting, erasing, degaussing, or by overwriting.

System manager(s) and address:

The Judge Advocate General, Headquarters United States Air Force, 1420 Air Force Pentagon, Washington, DC 20330-1420.

Notification procedure:

Individuals seeking to determine whether information about themselves is contained in this system should address written inquiries to the Judge Advocate General, Headquarters United States Air Force, 1420 Air Force Pentagon, Washington, DC 20330, or to the Staff Judge Advocate at the concerned subordinate command or installation.

Requests should include full name and proof of identity, date of incident and claim number, date and type of claim, location of incident may also be required.

Record access procedures:

Individuals seeking access to information about themselves contained in this system should address written inquiries to the Judge Advocate General, Headquarters United States Air Force, 1420 Air Force Pentagon, Washington, DC 20330; or to the Staff Judge Advocate at the concerned subordinate command or installation.

Requests should include full name and proof of identity, date of incident and claim number, date and type of claim, location of incident may also be required.

Contesting record procedures:

The Air Force rules for accessing records, and for contesting contents and appealing initial agency determinations are published in Air Force Instruction 33-332; 32 CFR part 806b; or may be obtained from the system manager.

Record source categories:

Information obtained from federal agency reports, claimants, medical institutions, police and investigating officers, the public media, bureaus of motor vehicles, state or local governments, and witnesses.

Exemptions claimed for the system:

None.

[FR Doc. E8-26752 Filed 11-10-08; 8:45 am]

BILLING CODE 5001-06-P